DEPARTMENT OF STATE

[Public Notice 7684]

30-Day Notice of Proposed Information Collection: DS-7656; Affidavit of Relationship (AOR)

ACTION: Notice of request for public comment and submission to OMB of proposed collection of information.

SUMMARY: The Department of State has submitted the following information collection request to the Office of Management and Budget (OMB) for approval in accordance with the Paperwork Reduction Act of 1995.

• Title of Information Collection: Affidavit of Relationship (AOR).

• OMB Control Number: None.

• Type of Request: New Collection.

• Originating Office: Office of Admissions, Bureau of Population, Refugees and Migration (PRM/A).

• Form Number: DS-7656.

• Respondents: Persons admitted to the United States as refugees or granted asylum in the United States requesting that their spouses, unmarried children under age 21, and/or parents, be considered for admission to the U.S. as refugees.

• Estimated Number of Respondents: 3,500 annually.

• Estimated Number of Responses: 3,500.

• Average Hours per Response: 1 hour (60 minutes).

• Total Estimated Burden: 3,500 annual hours.

• Frequency: On occasion.

• Obligation to Respond: Required to obtain or retain a benefit.

DATES: Submit comments to the Office of Management and Budget (OMB) for up to 30 days from November 15, 2011.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: (202) 395-5806. Attention: Desk Officer for Department of State.

FOR FURTHER INFORMATION CONTACT: You may obtain copies of the proposed information collection and supporting documents from Sumitra Siram, Office of Admissions, Bureau of Population, Refugees and Migration (PRM), PRM/Admissions, 2401 E Street NW., Suite L505, SA-1 Washington, DC 20522, who may be reached on (202) 453-9250 or at SiramS@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of Proposed Collection

The Affidavit of Relationship (AOR) is required by the Department of State to establish qualifications for access to the Priority 3—Family Reunification category of the United States Refugee Admissions Program (USRAP)—by persons of certain nationalities of special humanitarian concern who are family members of qualifying “anchors” (persons already admitted to the U.S. as refugees or granted asylum, including persons who may now be lawful permanent residents or U.S. citizens). Qualifying family members of U.S.-based anchors include spouses, unmarried children under age 21, and parents. Eligible nationalities are selected following careful review of several factors, including the United Nations High Commissioner for Refugees' annual assessment of refugees in need of resettlement, prospective or ongoing repatriation efforts, and U.S. foreign policy interests. The Priority 3 category is outlined in the annual Proposed Refugee Admissions—Report to Congress, which is submitted on behalf of the President in fulfillment of the requirements of Section 207(e)(1)-(7) of the Immigration and Nationality Act, and authorized by the annual Presidential Determination for Refugee Admissions.

Methodology

Information for the Affidavit of Relationship (AOR) is collected in person by Voluntary Agencies around the United States, which are organizations that work under cooperative agreements with the Department of State, to provide a means for current or former refugees and asylees to claim a relationship with certain family members that would qualify those family members to apply for access to refugee processing under the Priority 3 category of the U.S. Refugee Admissions Program. The Voluntary Agencies then forward the completed AORs to the Department of State's Refugee Processing Center (RPC) for data entry and case processing.

Dated: November 8, 2011.
Kelly A. Gauger,
Deputy Director, Office of Admissions, Bureau of Population, Refugees, and Migration, Department of State.

[FR Doc. 2011-29472 Filed 11-14-11; 8:45 am]

BILLING CODE 4710-33-P